DEPARTMENT OF COMMERCE

Bureau of Industry and Security

15 CFR Parts 738, 740, 744, 748, 750, 752, 758, 762, 772, and 774

[Docket No. 070611188-7189-01]

RIN 0694-AE07

Technical Corrections to the Export Administration Regulations

AGENCY: Bureau of Industry and Security, Commerce.

ACTION: Final rule; correction.

SUMMARY: This rule amends the Export Administration Regulations (EAR) by making the following changes: Correcting citations in several sections of the EAR, removing an endnote to the Entity List, reinserting the grace period provision for support documents, clarifying when an Automated Export System or Shipper's Export Declaration record must be filed, adding omitted information to certain Export Control Classification Numbers (ECCNs), removing references to the International Munitions List, and removing or editing references to ECCNs that have either changed or do not exist.

DATES: This rule is effective August 6, 2007.

ADDRESSES: Although this is a final rule, comments are welcome and should be sent to publiccomments@bis.doc.gov, fax (202) 482-3355, or to Regulatory Policy Division, Bureau of Industry and Security, Room H2705, U.S. Department of Commerce, Washington, DC 20230. Please refer to regulatory identification number (RIN) 0694-AE07 in all comments, and in the subject line of e-mail comments. Comments on the collection of information should be sent to David Rostker, Office of Management and Budget (OMB), by e-mail to David_Rostker@omb.eop.gov, or by fax to (202) 395-7285.

FOR FURTHER INFORMATION CONTACT: Steven Emme, Regulatory Policy Division, Bureau of Industry and Security, telephone: (202) 482-2440, e-mail: semme@bis.doc.gov.

SUPPLEMENTARY INFORMATION:

This rule makes the following corrections to the Export Administration Regulations.

Corrections to Citations in the EAR

This rule makes corrections to citations to three different subject matters in the EAR. First, throughout the EAR, many sections refer readers to the General Prohibitions, which affirmatively state licensing requirements for transactions and activities subject to the EAR. The General Prohibitions can be found in part 736 of the EAR, but several locations in the EAR cite part 734 instead. This rule corrects inaccurate citations to the General Prohibitions in the note to § 740.12(a), in paragraphs (f) and (i) in Supplement No. 2 to part 748, and in § 752.6(c).

Next, § 762.7 discusses the required period of retention for recordkeeping under the EAR, and paragraph (b) refers to “§ 765.5(c)(4)(ii)” for recordkeeping related to voluntary disclosures. However, part 765 does not exist in the EAR. Thus, this rule replaces that reference with the correct citation, which is § 764.5(c)(4)(ii).

Lastly, the definition for “Hold Without Action (HWA)” in § 772.1 refers to “§ 750.4(c)” for circumstances in which license applications may be held without action. However, § 750.4(c) refers to initial processing of applications, so this rule replaces “§ 750.4(c)” with the correct citation, which is § 750.4(b).

Correction to the Removal of Indian Entities From the Entity List

In accordance with the Next Steps in Strategic Partnership between the United States and India, the Bureau of Industry and Security (BIS) published a final rule on August 30, 2005 (70 FR 51251) removing certain Indian entities from the Entity List. One of the changes made concerned the removal of the second entry for the Department of Atomic Energy. The second entry for that entity contained the phrase “balance of plant”, which was found in the column for License review policy. Prior to the August 30, 2005 final rule, a superscript “1” was located next to “balance of plant” to reference an endnote found at the end of Supplement No. 4 to Part 744, which further elaborated on the phrase. When the prior rule removed the second entry containing the superscript “1”, it did not remove the endnote as well; thus, endnote 1 has remained with no corresponding text. As a result, this rule removes endnote 1 for “balance of plant” from the end of Supplement No. 4 to Part 744.

Reinsertion of Grace Period Provision for Support Documents

On June 19, 2007, BIS published a final rule (72 FR 33646) that inadvertently removed and reserved paragraph (a) in § 748.12 (special provisions for support documents), which should have remained in the EAR. Therefore, this rule corrects that removal by adding paragraph (a) back into § 748.12.

Clarification on Filing an AES or SED Record for Exports Requiring a License

Section 758.1 introduces the Shipper's Export Declaration (SED) and Automated Export System (AES), which are used by the Bureau of Census to compile data on trade statistics and used by BIS to collect data on export controls. Paragraph (b) of § 758.1 details when an SED or AES record is required when exporting an item subject to the EAR. Prior to this rule, paragraph (b)(2) stated that an exporter must file an SED or AES “[f]or all exports subject to the EAR that require a license, regardless of value, or destination;”. This wording could cause ambiguity as to whether this paragraph requires an SED or AES record to be filed for the export of items having a license requirement that can be overcome by a license exception. The wording in paragraph (b)(2) is meant to apply only to those items having a license requirement that cannot be overcome by a license exception. Consequently, this rule changes the wording to read: “[f]or all exports subject to the EAR that require submission of a license application, regardless of value or destination;”.

Addition of “License Exceptions” and “List of Items Controlled” Sections to ECCN 0A987, Addition of “Reason for Control” Paragraph to ECCNs 1C239 and 1C240, and Addition of ECCNs to “Related Controls” Paragraph of ECCN 1C239

On April 13, 1999, BIS (then the Bureau of Export Administration, or BXA) published a final rule (64 FR 17968) that added Export Control Classification Number (ECCN) 0A987 to the Commerce Control List for optical sighting devices for firearms. Prior to that rule, optical sighting devices for firearms were controlled under ECCN 0A985 (then partially titled “Optical sighting devices for firearms (including shotguns controlled by ECCN 0A984); discharge type arms * * *; and parts, n.e.s.”). In order to further clarity and consistency, BIS transferred optical sighting devices for firearms to a new ECCN. However, when ECCN 0A987 was added to the Commerce Control List, no License Exceptions section and no List of Items Controlled section were included. Since ECCN 0A985 previously controlled optical sighting devices for firearms, this rule adds a License Exceptions section and List of Items Controlled section to ECCN 0A987 that are identical to those respective sections in ECCN 0A985.

In addition, ECCNs 1C239 (certain high explosives) and 1C240 (certain nickel powder or porous nickel metal) currently list the applicable controls and country chart columns, but they do not list each reason for control at the beginning of the License Requirements section of each entry. Therefore, this rule adds the applicable reasons for control by adding nuclear nonproliferation (“NP”) and anti-terrorism (“AT”) to both ECCNs 1C239 and 1C240.

Lastly, this rule provides additional guidance by alerting readers of ECCN 1C239 to similar export controls found in related ECCNs. Specifically, this rule adds language to the “Related Controls” paragraph of ECCN 1C239 to refer readers to ECCNs 1C018 (commercial charges and devices containing energetic materials on the Wassenaar Arrangement Munitions List and certain chemicals) and 1C992 (certain commercial charges and devices containing energetic materials and nitrogen trifluoride in a gaseous state).

Removal of References to the International Munitions List

This rule removes references to the International Munitions List found in various parts of the EAR and in three separate ECCNs. The International Munitions List was a term used by the Coordinating Committee on Multilateral Export Controls (CoCom). CoCom was a multilateral organization that restricted strategic exports to controlled countries. On March 31, 1994, CoCom disbanded and was later replaced by the Wassenaar Arrangement on Export Controls for Conventional Arms and Dual-Use Goods and Technologies. Due to the United States's membership in the Wassenaar Arrangement, this rule removes “International Munitions List” and replaces it with “Wassenaar Arrangement Munitions List” in §§ 738.2(d)(1), 744.17(d), 744.21(f), and 750.4(b)(6)(ii)(E), as well as in the headings of ECCNs 1B018, 2B018, and 8A018 on the Commerce Control List.

Removal of Nonexistent ECCN References Related to “Space Qualified” Items

Section 740.2 details restrictions which prevent the use of any License Exceptions. One such restriction on the use of License Exceptions involves “space qualified” items, found in paragraph (a)(7) of § 740.2. That paragraph lists ECCN 6D104 and ECCN 6E102 as two ECCN entries for the “software” and “technology”, respectively, for certain “space qualified” commodities. However, ECCNs 6D104 and 6E102 do not currently exist on the Commerce Control List; thus, this rule removes those references to ECCNs 6D104 and 6E102 from § 740.2(a)(7).

Similarly, ECCN 6D001 also contains a reference to ECCN 6E102. In ECCN 6D001, the Related Controls paragraph instructs readers to “[s]ee also 6D991, and ECCNs 6E001 (‘development’) and 6E102 (‘use’) for ‘technology’ for items controlled under this entry.” This rule revises that sentence to read “See also 6D991, and ECCN 6E001 (‘development’) for ‘technology’ for items controlled under this entry.”

Correction to the ECCN for Mobile Devices for Reexport to Sudan Under License Exception APR

On July 23, 1999, BIS (then BXA) published a final rule (64 FR 40106) that moved mobile communication devices from ECCN 5A991.f to ECCN 5A991.g. This renumbering of paragraphs in ECCN 5A991 was done pursuant to Wassenaar Arrangement review. Later, on May 26, 2000, BIS published another final rule (65 FR 34073) that reflected the classification change for mobile devices in § 742.10(a)(2), which lists the ECCNs that are allowed for reexport to Sudan, under anti-terrorism controls. However, that May 26, 2000, final rule did not update the classification change for mobile devices for § 740.16(i), which lists the ECCNs that are permitted for reexport to Sudan without a license under License Exception APR (additional permissive reexports). Prior to the May 26, 2000, final rule, the ECCNs listed in § 742.10(a)(2) matched the ECCNs listed in § 740.16(i). To ensure conformity, this final rule updates § 740.16(i) to replace “5A991.f” with “5A991.g”, which will make the requirements concerning reexports to Sudan under License Exception APR consistent with the list of items allowed for reexport to Sudan under § 742.10.

Although the Export Administration Act expired on August 20, 2001, the President, through Executive Order 13222 of August 17, 2001, 3 CFR, 2001 Comp., p. 783 (2002), as extended by the Notice of August 3, 2006, 71 FR 44551 (August 7, 2006), has continued the Export Administration Regulations in effect under the International Emergency Economic Powers Act.

Rulemaking Requirements

1. This final rule has been determined to be not significant for purposes of E.O. 12866.

2. Notwithstanding any other provision of law, no person is required to respond to, nor shall any person be subject to a penalty for failure to comply with, a collection of information subject to the requirements of the Paperwork Reduction Act of 1995 (44 U.S.C. 3501 et seq.) (PRA), unless that collection of information displays a currently valid Office of Management and Budget (OMB) Control Number. This rule involves a collection of information subject to the requirements of the PRA. This collection has previously been approved by OMB under control number 0694-0088 (Multi-Purpose Application), which carries a burden hour estimate of 58 minutes to prepare and submit form BIS-748. Miscellaneous and recordkeeping activities account for 12 minutes per submission. BIS expects that this rule will not change that burden hour estimate.

3. This rule does not contain policies with Federalism implications as that term is defined under E.O. 13132.

4. The provisions of the Administrative Procedure Act (5 U.S.C. 553) requiring notice of proposed rulemaking, the opportunity for public participation, and a delay in effective date, are inapplicable because this regulation involves a military and foreign affairs function of the United States (5 U.S.C. 553(a)(1)). Further, no other law requires that a notice of proposed rulemaking and an opportunity for public comment be given for this final rule. Because a notice of proposed rulemaking and an opportunity for public comment are not required to be given for this rule under the Administrative Procedure Act or by any other law, the analytical requirements of the Regulatory Flexibility Act (5 U.S.C. 601 et seq.) are not applicable. Therefore, this regulation is issued in final form. Although there is no formal comment period, public comments on this regulation are welcome on a continuing basis. Comments should be submitted to Steven Emme, Regulatory Policy Division, Bureau of Industry and Security, Department of Commerce, P.O. Box 273, Washington, DC 20044.

List of Subjects

15 CFR Parts 738 and 772

Exports.

15 CFR Parts 740, 748, 750, 752, and 758

Administrative practice and procedure, Exports, Reporting and recordkeeping requirements.

15 CFR Part 744

Exports, Reporting and recordkeeping requirements, Terrorism.

15 CFR Part 762

Administrative practice and procedure, Business and industry, Confidential business information, Exports, Reporting and recordkeeping requirements.

15 CFR Part 774

Exports, Reporting and recordkeeping requirements.

Accordingly, parts 738, 740, 744, 748, 750, 752, 758, 762, 772, and 774 of the Export Administration Regulations (15 CFR parts 730-774) are corrected by making the following amendments:

PART 738—[AMENDED]

1. The authority citation for 15 CFR part 738 continues to read as follows:

Authority: 50 U.S.C. app. 2401 et seq.; 50 U.S.C. 1701 et seq.; 10 U.S.C. 7420; 10 U.S.C. 7430(e); 22 U.S.C. 287c; 22 U.S.C. 3201 et seq.; 22 U.S.C. 6004; 30 U.S.C. 185(s), 185(u); 42 U.S.C. 2139a; 42 U.S.C. 6212; 43 U.S.C. 1354; 46 U.S.C. app. 466c; 50 U.S.C. app. 5; Sec. 901-911, Pub. L. 106-387; Sec. 221, Pub. L. 107-56; E.O. 13026, 61 FR 58767, 3 CFR, 1996 Comp., p. 228; E.O. 13222, 66 FR 44025, 3 CFR, 2001 Comp., p. 783; Notice of August 3, 2006, 71 FR 44551 (August 7, 2006).

§ 738.2 [Amended]

2. Section 738.2(d)(1) is amended by removing the term “International Munitions List” and adding “Wassenaar Arrangement Munitions List” in its place.

PART 740—[AMENDED]

3. The authority citation for 15 CFR part 740 continues to read as follows:

Authority: 50 U.S.C. app. 2401 et seq.; 50 U.S.C. 1701 et seq.; Sec. 901-911, Pub. L. 106-387; E.O. 13026, 61 FR 58767, 3 CFR, 1996 Comp., p. 228; E.O. 13222, 66 FR 44025, 3 CFR, 2001 Comp., p. 783; Notice of August 3, 2006, 71 FR 44551 (August 7, 2006).

§ 740.2 [Amended]

4. Section 740.2(a)(7) is amended by removing the ECCN references “6D104” and “6E102”.

§ 740.12 [Amended]

5. Section 740.12 is amended by removing the citation “§ 734.2(b)” in the second sentence in the Note to paragraph (a) and adding “§ 736.2(b)” in its place.

§ 740.16 [Amended]

6. Section 740.16(i) is amended by removing the ECCN reference “5A991.f” and adding “5A991.g” in its place.

PART 744—[AMENDED]

7. The authority citation for 15 CFR part 744 continues to read as follows:

Authority: 50 U.S.C. app. 2401 et seq.; 50 U.S.C. 1701 et seq.; 22 U.S.C. 3201 et seq.; 42 U.S.C. 2139a; Sec. 901-911, Pub. L. 106-387; Sec. 221, Pub. L. 107-56; E.O. 12058, 43 FR 20947, 3 CFR, 1978 Comp., p. 179; E.O. 12851, 58 FR 33181, 3 CFR, 1993 Comp., p. 608; E.O. 12938, 59 FR 59099, 3 CFR, 1994 Comp., p. 950; E.O. 12947, 60 FR 5079, 3 CFR, 1995 Comp., p. 356; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of August 3, 2006, 71 FR 44551 (August 7, 2006); Notice of October 27, 2006, 71 FR 64109 (October 31, 2006).

8. Section 744.17 is amended by revising the first sentence in paragraph (d) to read as follows:

§ 744.17 Restrictions on certain exports and reexports of general purpose microprocessors for “military end-uses” and to “military end-users”.

* * * * *

(d) Military end-use. In this section, the phrase “military end-use” means incorporation into: a military item described on the U.S. Munitions List (USML) (22 CFR part 121, International Traffic in Arms Regulations) or the Wassenaar Arrangement Munitions List (as set out on the Wassenaar Arrangement Web site at http://www.wassenaar.org); commodities listed under ECCN's ending in “A018” on the Commerce Control List (CCL) in Supplement No. 1 to part 774 of the EAR; or any item that is designed for the “use”, “development”, “production”, or deployment of military items described on the USML, the Wassenaar Arrangement Munitions List, or commodities listed under ECCNs ending in “A018” on the CCL.* * *

* * * * *

§ 744.21 [Amended]

9. Section 744.21(f) is amended by removing the term “International Munitions List (IML)” and adding “Wassenaar Arrangement Munitions List” in its place.

Supplement No. 4 to Part 744 [Amended]

10. Supplement No. 4 to part 744 is amended by removing endnote 1, “ ‘Balance of Plant’ refers to the part of a nuclear power plant used for power generation (e.g., turbines, controllers, or power distribution) to distinguish it from the nuclear reactor.”

PART 748—[AMENDED]

11. The authority citation for 15 CFR part 748 continues to read as follows:

Authority: 50 U.S.C. app. 2401 et seq.; 50 U.S.C. 1701 et seq.; E.O. 13026, 61 FR 58767, 3 CFR, 1996 Comp., p. 228; E.O. 13222, 66 FR 44025, 3 CFR, 2001 Comp., p. 783; Notice of August 3, 2006, 71 FR 44551 (August 7, 2006).

12. Section 748.12 is amended by adding paragraph (a) to read as follows:

§ 748.12 Special provisions for support documents.

(a) Grace periods. Whenever the requirement for an Import Certificate or End-User Statement or Statement by Ultimate Consignee or Purchaser is imposed or extended by a change in the regulations, the license application need not conform to the new support documentation requirements for a period of 45 days after the effective date of the regulatory change published in the Federal Register.

(1) Requirements are usually imposed or extended by virtue of one of the following:

(i) Addition or removal of national security controls over a particular item; or

(ii) Development of an Import Certificate/Delivery Verification or End-User Certificate program by a foreign country; or

(iii) Removal of an item from eligibility under the Special Comprehensive License described in part 752 of the EAR, when you hold such a special license and have been exporting the item under that license.

(2) License applications filed during the 45 day grace period must be accompanied by any evidence available to you that will support representations concerning the ultimate consignee, ultimate destination, and end use, such as copies of the order, letters of credit, correspondence between you and ultimate consignee, or other documents received from the ultimate consignee. You must also identify the regulatory change (including its effective date) that justifies exercise of the 45 day grace period. Note that an Import Certificate or End-User Statement will not be accepted, after the stated grace period, for license applications involving items that are no longer controlled for national security reasons. If an item is removed from national security controls, you must obtain a Statement by Ultimate Consignee and Purchaser as described in § 748.11 of this part. Likewise, any item newly controlled for national security purposes requires support of an Import Certificate or End-User Statement as described in § 748.10 of this part after expiration of the stated grace period.

* * * * *

Supplement No. 2 to Part 748 [Amended]

13. Supplement No. 2 to part 748 is amended by:

a. Removing the term “No. 8” in paragraph (f) and adding “Eight” in its place;

b. Removing the citation “§ 734.2(b)(8)” in paragraph (f) and adding “§ 736.2(b)(8)” in its place; and

c. Removing the citation “§ 734.2(b)(2)” in paragraph (i) and adding “§ 736.2(b)(2)” in its place.

PART 750—[AMENDED]

14. The authority citation for 15 CFR part 750 continues to read as follows:

Authority: 50 U.S.C. app. 2401 et seq.; 50 U.S.C. 1701 et seq.; Sec. 1503, Pub. L. 108-11, 117 Stat. 559; E.O. 13026, 61 FR 58767, 3 CFR, 1996 Comp., p. 228; E.O. 13222, 66 FR 44025, 3 CFR, 2001 Comp., p. 783; Presidential Determination 2003-23 of May 7, 2003, 68 FR 26459, May 16, 2003; Notice of August 3, 2006, 71 FR 44551 (August 7, 2006).

§ 750.4 [Amended]

15. Section 750.4 is amended by removing the term “International Munitions List” in paragraph (b)(6)(ii)(E) and adding “Wassenaar Arrangement Munitions List” in its place.

PART 752—[AMENDED]

16. The authority citation for 15 CFR part 752 continues to read as follows:

Authority: 50 U.S.C. app. 2401 et seq.; 50 U.S.C. 1701 et seq.; E.O. 13020, 61 FR 54079, 3 CFR, 1996 Comp. p. 219; E.O. 13222, 66 FR 44025, 3 CFR, 2001 Comp., p. 783; Notice of August 3, 2006, 71 FR 44551 (August 7, 2006).

§ 752.6 [Amended]

17. Section 752.6 is amended by removing the number “734” in the first sentence of paragraph (c) and adding “736” in its place.

PART 758—[AMENDED]

18. The authority citation for 15 CFR part 758 continues to read as follows:

Authority: 50 U.S.C. app. 2401 et seq.; 50 U.S.C. 1701 et seq.; E.O. 13222, 66 FR 44025, 3 CFR, 2001 Comp., p. 783; Notice of August 3, 2006, 71 FR 44551 (August 7, 2006).

19. Section 758.1 is amended by revising paragraph (b)(2) to read as follows:

§ 758.1 The Shipper's Export Declaration (SED) or Automated Export System (AES) record.

* * * * *

(b) * * *

(2) For all exports subject to the EAR that require submission of a license application, regardless of value or destination;

* * * * *

PART 762—[AMENDED]

20. The authority citation for 15 CFR part 762 continues to read as follows:

Authority: 50 U.S.C. app. 2401 et seq.; 50 U.S.C. 1701 et seq.; E.O. 13222, 66 FR 44025, 3 CFR, 2001 Comp., p. 783; Notice of August 3, 2006, 71 FR 44551 (August 7, 2006).

§ 762.6 [Amended]

21. Section 762.6(b) is amended by removing the citation “§ 765.5(c)(4)(ii)” and adding “§ 764.5(c)(4)(ii)” in its place.

PART 772—[AMENDED]

22. The authority citation for 15 CFR part 772 continues to read as follows:

Authority: 50 U.S.C. app. 2401 et seq.; 50 U.S.C. 1701 et seq.; E.O. 13222, 66 FR 44025, 3 CFR, 2001 Comp., p. 783; Notice of August 3, 2006, 71 FR 44551 (August 7, 2006).

§ 772.1 [Amended]

23. Section 772.1 is amended by removing the citation “§ 750.4(c)” in the definition of “Hold Without Action (HWA)” and adding “§ 750.4(b)” in its place.

PART 774—[AMENDED]

24. The authority citation for 15 CFR part 774 continues to read as follows:

Authority: 50 U.S.C. app. 2401 et seq.; 50 U.S.C. 1701 et seq.; 10 U.S.C. 7420; 10 U.S.C. 7420; 10 U.S.C. 7430(e); 18 U.S.C. 2510 et seq.; 22 U.S.C. 287c, 22 U.S.C. 3201 et seq., 22 U.S.C. 6004; 30 U.S.C. 185(s), 185(u); 42 U.S.C. 2139a; 42 U.S.C. 6212; 43 U.S.C. 1354; 46 U.S.C. app. 466c; 50 U.S.C. app. 5; Sec. 901-911, Pub. L. 106-387; Sec. 221, Pub. L. 107-56; E.O. 13026, 61 FR 58767, 3 CFR, 1996 Comp., p. 228; E.O. 13222, 66 FR 44025, 3 CFR, 2001 Comp., p. 783; Notice of August 3, 2006, 71 FR 44551 (August 7, 2006).

Supplement No. 1 to Part 774—The Commerce Control List—[Amended]

25. In Supplement No. 1 to part 774 (the Commerce Control List), Category 0-Nuclear Materials, Facilities, and Equipment [and Miscellaneous Items], Export Control Classification Number (ECCN) 0A987 is amended by adding a “License Exceptions” section and a “List of Items Controlled” section, after the “License Requirements” section, to read as follows:

0A987 Optical sighting devices for firearms (including shotguns controlled by 0A984); and parts, n.e.s.

License Requirements

* * * * *

License Exceptions

LVS: N/A

GBS: N/A

CIV: N/A

List of Items Controlled

Unit: $ value

Related Controls: N/A

Related Definitions: N/A

Items: The list of items controlled is contained in the ECCN heading.

26. In Supplement No. 1 to part 774 (the Commerce Control List), Category 1—Materials, Chemicals, “Microorganisms” & “Toxins”, Export Control Classification Number (ECCN) 1B018 is amended by revising the Heading to read as follows:

1B018 Equipment on the Wassenaar Arrangement Munitions List.

* * * * *

27. In Supplement No. 1 to part 774 (the Commerce Control List), Category 1—Materials, Chemicals, “Microorganisms” & “Toxins”, Export Control Classification Number (ECCN) 1C239 is amended by revising the “Reason for Control” paragraph of the “License Requirements” section and the “Related Controls” paragraph in the “List of Items Controlled” section to read as follows:

1C239 High explosives, other than those controlled by the U.S. Munitions List, or substances or mixtures containing more than 2% by weight thereof, with a crystal density greater than 1.8 g/cm ³ and having a detonation velocity greater than 8,000 m/s.

License Requirements

Reason for Control: NP, AT

* * * * *

List of Items Controlled

Unit: * * *

Related Controls: (1) See ECCNs 1E001 (“development” and “production”) and 1E201 (“use”) for technology for items controlled by this entry. (2) See ECCNs 1C018 (commercial charges and devices containing energetic materials on the Wassenaar Arrangement Munitions List and certain chemicals as follows) and 1C992 (commercial charges and devices containing energetic materials, n.e.s and nitrogen trifluoride in a gaseous state). (3) High explosives for military use are subject to the export licensing authority of the U.S. Department of State, Directorate of Defense Trade Controls (see 22 CFR part 121.12).

* * * * *

28. In Supplement No. 1 to part 774 (the Commerce Control List), Category 1—Materials, Chemicals, “Microorganisms” & “Toxins”, Export Control Classification Number (ECCN) 1C240 is amended by revising the “Reason for Control” paragraph of the “License Requirements” section to read as follows:

1C240 Nickel powder or porous nickel metal, other than those described in 0C006, as follows (see List of Items Controlled).

License Requirements

Reason for Control: NP, AT

* * * * *

29. In Supplement No. 1 to part 774 (the Commerce Control List), Category 2—Materials Processing, Export Control Classification Number (ECCN) 2B018 is amended by revising the Heading to read as follows:

2B018 Equipment on the Wassenaar Arrangement Munitions List.

* * * * *

30. In Supplement No. 1 to part 774 (the Commerce Control List), Category 6—Sensors and Lasers, Export Control Classification Number (ECCN) 6D001 is amended by revising the Heading and “Related Controls” paragraph of the “List of Items Controlled” section as follows:

6D001 “Software” specially designed for the “development” or “production” of equipment controlled by 6A004, 6A005, 6A008, or 6B008.

* * * * *

List of Items Controlled

Unit: * * *

Related Controls: “Software” specially designed for the “development” or “production” of “space qualified” components for optical systems defined in 6A004.c and “space qualified” optical control equipment defined in 6A004.d.1 is subject to the export licensing authority of the Department of State, Directorate of Defense Trade Controls (22 CFR part 121). See also 6D991, and ECCN 6E001 (“development”) for “technology” for items controlled under this entry.

* * * * *

31. In Supplement No. 1 to part 774 (the Commerce Control List), Category 8—Marine, Export Control Classification Number 8A018 is amended by revising the Heading to read as follows:

8A018 Items on the Wassenaar Arrangement Munitions List.

* * * * *

Dated: July 30, 2007.
Christopher A. Padilla,
Assistant Secretary for Export Administration.

[FR Doc. E7-15099 Filed 8-3-07; 8:45 am]

BILLING CODE 3510-33-P